DEPARTMENT OF COMMERCE

National Oceanic and Atmospheric Administration

[RTID 0648-XB335]

Magnuson-Stevens Act Provisions; Fisheries of the Northeastern United States; Northeast Multispecies Fishery; Approved Monitoring Service Providers

AGENCY: National Marine Fisheries Service (NMFS), National Oceanic and Atmospheric Administration (NOAA), Commerce.

ACTION: Notification of approved monitoring service providers.

SUMMARY: NMFS has approved an additional company to provide Northeast multispecies sector electronic monitoring services in fishing years 2021 and 2022. Regulations implementing the Northeast Multispecies Fishery Management Plan require at-sea and electronic monitoring companies to apply to, and be approved by, NMFS in order to be eligible to provide monitoring services to sectors. This action will allow sectors to contract for at-sea and electronic monitoring services with any of the approved service providers for fishing years 2021 and 2022.

ADDRESSES: The list of NMFS-approved sector monitoring service providers is available at: https://www.fisheries.noaa.gov/resource/data/observer-providers-northeast-and-mid-atlantic-programs.

FOR FURTHER INFORMATION CONTACT: Claire Fitz-Gerald, Fishery Policy Analyst, (978) 281-9255, email Claire.Fitz-Gerald@noaa.gov.

SUPPLEMENTARY INFORMATION: The Northeast Multispecies Fishery Management Plan includes a requirement for industry-funded monitoring of catch by sector vessels. Sectors must contract with independent third-party service providers to provide at-sea and/or electronic monitoring services to their vessels. In order to provide at-sea or electronic monitoring services to sectors, monitoring companies must apply to, and be approved by, NMFS. The regulations at 50 CFR 648.87(b)(4) describe the criteria for approval of at-sea and electronic monitoring service providers. We approve service providers based on: (1) Completeness and sufficiency of applications; and (2) determination of the applicant's ability to meet the performance requirements of a sector monitoring service provider. Once approved, service providers must meet specified performance requirements outlined in § 648.87(b)(4), including required coverage levels, in order to maintain eligibility. We must notify service providers, in writing, if NMFS withdraws approval for any reason.

Approved Monitoring Service Providers

On February 4, 2021, NMFS approved 6 companies to provide monitoring services to the Northeast multispecies sectors in fishing years 2021 and 2022. Four of the six companies are approved to provide both at-sea and electronic monitoring services: A.I.S., Inc.; East West Technical Services, LLC; Fathom Research, LLC; and Saltwater, Inc. NMFS approved the other two companies to provide electronic monitoring services: Flywire Cameras and Teem Fish.

Two additional companies also applied to provide electronic monitoring services, but we required additional information to complete their applications prior to making a determination. One company, New England Marine Monitoring, has since submitted a revised and complete application for our consideration. We approved New England Marine Monitoring to provide electronic monitoring services in fishing years 2021 and 2022 because the applicant has met the application requirements and documented its ability to comply with service provider standards. The revised list of approved monitoring providers for fishing years 2021 and 2022 is provided in Table 1.

There will be an opportunity in the fall of 2021 for additional monitoring companies to apply for approval to provide at-sea and electronic monitoring services in fishing year 2022. We will closely monitor the performance of approved providers, and we will withdraw approval during the current approval term, or disapprove a provider in future fishing years, if we determine performance standards are not being met.

Table 1—Approved Providers for Fishing Years 2021 and 2022
Provider | Services * | Address | Phone | Fax | Website
A.I.S., Inc | ASM/EM | 540 Hawthorn St, Dartmouth, MA 02747 | 508-990-9054 | 508-990-9055 | https://aisobservers.com/.
East West Technical Services, LLC | ASM/EM | 91 Point Judith Rd., Suite 26 Unit 347, Narragansett, RI 02882 | 860-910-4957 | 860-223-6005 | https://www.ewts.com/.
Fathom Resources, LLC | ASM/EM | 855 Aquidneck Ave., Unit 9, Middletown, RI 02842 | 508-990-0997 | 508-991-7372 | https://fathomresources.com/.
Flywire Cameras | EM | P.O. BOX 55048, Lexington, KY 40511 | 888-315-7796 | 502-861-6568 | https://www.flywirecameras.com/.
Saltwater, Inc | ASM/EM | 733 N St., Anchorage, AK 99501 | 907-276-3241 | 907-258-5999 | https://www.saltwaterinc.com/.
Teem Fish | EM | 90-425 Carrall St., Vancouver, BC V6B 6E3, Canada | 778-884-2598 |  | https://teem.fish/.
New England Marine Monitoring | EM | 350 Commercial St., Portland, ME 04101 | 508-269-8138 |  | https://www.nemarinemonitoring.com/.
* ASM/EM = At-sea and electronic monitoring; EM = Electronic monitoring only.

(Authority: 16 U.S.C. 1801 et seq.)

Dated: September 16, 2021.
Jennifer M. Wallace,
Acting Director, Office of Sustainable Fisheries, National Marine Fisheries Service.

[FR Doc. 2021-20463 Filed 9-21-21; 8:45 am]

BILLING CODE 3510-22-P